DEPARTMENT OF VETERANS AFFAIRS

Advisory Committee on OIF/OEF Veterans and Families; Notice of Meeting

The Department of Veterans Affairs (VA) gives notice under Public Law 92-463 (Federal Advisory Committee Act) that the Advisory Committee on OIF/OEF Veterans and Families will meet on April 15-16, 2009, at the St. Regis Hotel, 923 16th Street, NW., Washington, DC, from 8:30 a.m. to 4:30 p.m. each day. The meeting is open to the public.

The purpose of the Committee is to advise the Secretary of Veterans Affairs on the full spectrum of health care, benefits delivery and related family support issues that confront servicemembers during their transition from active duty to veteran status and during their post-service years. The Committee focuses on the concerns of all men and women with active military service in Operation Iraqi Freedom and/or Operation Enduring Freedom, but pays particular attention to severely disabled veterans and their families.

The agenda for April 15 and 16 will feature a review of information gathered by the Committee during the past two years. The Committee will also discuss the possibility of transferring records and sharing the results of its various fact-finding initiatives with other VA advisory committees which have complementary jurisdictions and similar areas of interest.

The public may submit written statements for the Committee's review to the Advisory Committee on OIF/OEF Veterans and Families (008), Department of Veterans Affairs, 810 Vermont Avenue, NW., Washington, DC 20420. Any member of the public seeking additional information should contact Laura O'Shea, Designated Federal Officer, at (202) 461-5765.

Dated: March 31, 2009.
By Direction of the Secretary.
E. Philip Riggin,
Committee Management Officer.

[FR Doc. E9-7456 Filed 4-1-09; 8:45 am]

BILLING CODE 8320-01-P